DEPARTMENT OF HEALTH AND HUMAN SERVICES

Food and Drug Administration

[Docket No. FDA-2016-N-0001]

Arthritis Advisory Committee; Notice of Meeting; Correction

AGENCY: Food and Drug Administration, HHS.

ACTION: Notice; correction.

SUMMARY: The Food and Drug Administration (FDA) is correcting a notice that appeared in the Federal Register on January 19, 2016 (81 FR 2873). The document announced an “Arthritis Advisory Committee” meeting and contained an incorrect date for individuals requesting oral presentations, and for FDA notifying individuals regarding their request to speak at the meeting. This document corrects those errors.

FOR FURTHER INFORMATION CONTACT: Stephanie L. Begansky, Center for Drug Evaluation and Research, Food and Drug Administration, 10903 New Hampshire Ave., Bldg. 31, Rm. 2417, Silver Spring, MD 20993-0002, 301-796-9001, FAX: 301-847-8533.

SUPPLEMENTARY INFORMATION: In FR Doc. 2016-00823, appearing on page 2873 in the Federal Register of Tuesday, January 19, 2016, the following corrections are made:

1. On page 2873, in the third column, in the “Procedure” paragraph, the fourth sentence is corrected to read “Those individuals interested in making formal oral presentations should notify the contact person and submit a brief statement of the general nature of the evidence or arguments they wish to present, the names and addresses of proposed participants, and an indication of the approximate time requested to make their presentation on or before January 28, 2016.”

2. On page 2873, in the third column, in the “Procedure” paragraph, the last sentence is corrected to read “The contact person will notify interested persons regarding their request to speak by January 29, 2016.”

Dated: January 19, 2016.
Leslie Kux,
Associate Commissioner for Policy.

[FR Doc. 2016-01248 Filed 1-21-16; 8:45 am]

BILLING CODE 4164-01-P